FEDERAL COMMUNICATIONS COMMISSION

47 CFR Part 73

[MB Docket No.19-310, MB Docket No. 17-105; Report No. 3216; FR ID 238943]

Petition for Reconsideration of Action in Rulemaking Proceeding

AGENCY: Federal Communications Commission.

ACTION: Petition for reconsideration.

SUMMARY: Petition for Reconsideration (Petition) has been filed in the Commission's proceeding by Larry Walke on behalf of National Association of Broadcasters.

DATES: Oppositions to the Petition must be filed on or before September 4, 2024. Replies to oppositions to the Petition must be filed on or before September 16, 2024.

ADDRESSES: Federal Communications Commission, 45 L Street NE, Washington, DC 20554.

FOR FURTHER INFORMATION CONTACT: For additional information on this proceeding, contact John Bat of the Media Bureau, Industry Analysis Division, at (202) 418-7921 or John.Bat@fcc.gov.

SUPPLEMENTARY INFORMATION: This is a summary of the Commission's document, Report No. 3216, released August 12, 2024. The full text of the Petition can be accessed online via the Commission's Electronic Comment Filing System at: https://apps.fcc.gov/ecfs/. The Commission will not send a Congressional Review Act (CRA) submission to Congress or the Government Accountability Office pursuant to the CRA, 5 U.S.C. 801(a)(1)(A), because no rules are being adopted by the Commission.

Subject: Amendment of section 73.3556 of the Commission's Rules Regarding Duplication of Programming on Commonly Owned Radio Stations (MB Docket No. 19-310, MB Docket No. 17-105).

Number of Petitions Filed: 1.

Federal Communications Commission.
Marlene Dortch,
Secretary, Office of the Secretary.

[FR Doc. 2024-18607 Filed 8-19-24; 8:45 am]

BILLING CODE 6712-01-P